DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”) within the Department of the Treasury is soliciting comments concerning the Fund's Financial Assistance and Technical Assistance Programs of the Fund's Community Development Financial Institutions (CDFI) Program.

DATES: Written comments should be received on or before September 5, 2006 to be assured of consideration.

ADDRESSES: Direct all comments to Margaret Nilson, CDFI Programs Manager, Community Development Financial Institutions Fund, U.S. Department of the Treasury, 601 13th Street, NW., Suite 200 South, Washington, DC 20005, Facsimile Number (202) 622-7754.

A draft of the information collection for the FA/TA Application may be obtained from the Fund's Web site at http://www.cdfifund.gov. Requests for additional information should be directed to Margaret Nilson, CDFI Program Manager, Community Development Financial Institutions Fund, U.S. Department of the Treasury, 601 13th Street, NW., Suite 200 South, Washington, DC 20005, or call (202) 622-8662.

SUPPLEMENTARY INFORMATION: Title: The Community Development Financial Institutions Fund—Financial Assistance and Technical Assistance Application.

OMB Number: 1559-0021 (FA).

OMB Number: 1559-0022 (TA).

Abstract: The purpose of the Fund's CDFI Program is to promote economic revitalization and community development through investment in and assistance to certified CDFIs. Through the CDFI Program, the Fund provides financial and technical assistance in the form of grants, loans, equity investments, and deposits to competitively selected CDFIs and entities proposing to become CDFIs. The Fund provides such assistance to CDFIs to enhance their capacity to address the community development and capital access needs of their particular target markets, including Native American, Alaska Native, and Native Hawaiian communities. On February 13, 2006, the Community Development Financial Institutions Fund (the Fund) closed the FY 2006 round of the Community Development Financial Institutions (CDFI) Program combining the Financial Assistance (FA) and Technical Assistance (TA) Components. Subsequent to the closing of this round, the Fund re-evaluated all CDFI Program Application materials, made some enhancements and expects to make more enhancements to the Application in the interests of reducing the collection burden for Applicants, clarifying certain questions, and improving the Fund's ability to evaluate Applications. Overall, the Fund reduced the number of questions in the Application from 56 in 2005 to 30 in 2006 and reduced the number of tables from 25 to eight.

Type of Review: Revision.

Affected Public: Not-for-profit institutions, businesses or other for-profit institutions and tribal entities.

Estimated Number of Respondents: 200.

Estimated Annual Time per Respondent: 40.

Estimated Total Annual Burden Hours: 8,000 hours.

Requests for Comments: Comments submitted in response to this notice will be summarized and/or included in the request for OMB approval. All comments will become a matter of public record. Comments are invited on: (a) Whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 4703, 4703 note, 4707, 4710, 4714, 4717; 31 U.S.C. 321; and 12 CFR part 1805.

Dated: June 22, 2006.
Arthur A. Garcia,
Director, Community Development Financial Institutions Fund.

[FR Doc. E6-10412 Filed 7-3-06; 8:45 am]

BILLING CODE 4810-70-P